DEPARTMENT OF HEALTH AND HUMAN SERVICES

National Institutes of Health

Center for Scientific Review; Amended Notice of Meeting

Notice is hereby given of a change in the meeting of the Skeletal Biology Development and Disease Study Section, June 03, 2014, 08:00 a.m. to June 04, 2014, 05:30 p.m., Gaithersburg Marriott Washingtonian Center, 9751 Washingtonian Boulevard, Gaithersburg, MD 20878 which was published in the Federal Register on May 06, 2014, 79 FR 25880.

The meeting will be held at the Marriott Courtyard Gaithersburg Washingtonian Center, 204 Boardwalk Place, Gaithersburg, MD 20878. The meeting date and time remain the same. The meeting is closed to the public.

Dated: May 7, 2014.
David Clary,
Program Analyst, Office of Federal Advisory Committee Policy.

[FR Doc. 2014-10910 Filed 5-12-14; 8:45 am]

BILLING CODE 4140-01-P